DEPARTMENT OF THE INTERIOR

Bureau of Ocean Energy Management, Regulation and Enforcement

[Docket No. BOEM-2010-0063]

Commercial Leasing for Wind Power on the Outer Continental Shelf (OCS) Offshore Massachusetts—Request for Interest (RFI)

AGENCY: Bureau of Ocean Energy Management, Regulation and Enforcement, Interior.

ACTION: RFI in Commercial Wind Energy Leasing Offshore Massachusetts, and Invitation for Comments from Interested and Affected Parties.

SUMMARY: The Bureau of Ocean Energy Management, Regulation and Enforcement (BOEMRE) invites submissions describing interest in obtaining one or more commercial leases for the construction of a wind energy project(s) on the Outer Continental Shelf (OCS) offshore Massachusetts. BOEMRE will use the responses to this RFI to gauge specific interest in commercial development of OCS wind resources in the area described, as required by 43 U.S.C. 1337(p)(3). Parties wishing to obtain a commercial lease for a wind energy project should submit detailed and specific information as described below in the section entitled, “Required Indication of Interest Information.” Also, with this announcement, BOEMRE invites all interested and affected parties to comment and provide information—including information on environmental issues and data—that will be useful in the consideration of the RFI area for commercial wind energy leases.

This RFI is published pursuant to subsection 8(p) of the OCS Lands Act, as amended by section 388 of the Energy Policy Act of 2005 (EPAct) (43 U.S.C. 1337(p)(3)) and the implementing regulations at 30 CFR part 285.

The area of interest for commercial development is off the coast of Massachusetts beginning approximately 12 nautical miles (nm) south of Martha's Vineyard and Nantucket and extending approximately 31 nm seaward, south to the 60 meter depth contour, then east approximately 65 nm, then north approximately 31 nm. The area is approximately 2,224 square nm and contains 321 whole OCS lease blocks as well as 163 partial blocks. This area was delineated in consultation with the BOEMRE Massachusetts Renewable Energy Task Force. A detailed description of the RFI area is found later in this notice.

This RFI is being published as a first step under the Secretary of the Interior's Smart from the Start OCS renewable energy initiative, which was announced by Secretary Ken Salazar on November 23, 2010. Some of the area delineated for the Massachusetts RFI may be identified as a Wind Energy Area (WEA) as referenced and described in the Secretary's announcement. A WEA is an OCS location that appears to be most suitable for commercial wind energy development and is identified by BOEMRE for further study and consultation to foster responsible and efficient leasing and development. The Massachusetts RFI was delineated based on deliberation and consultation with the Massachusetts Renewable Energy Task Force and the subsequent selection of a WEA will be based on further scrutiny resulting from input received on this RFI. The comments and information responding to this RFI will enable BOEMRE to identify focused WEA's for both competitive and noncompetitive leasing processes and accompanying environmental review under the National Environmental Policy Act (NEPA).

DATES: BOEMRE must receive your submission indicating your interest in this potential commercial leasing area no later than February 28, 2011 for your submission to be considered. BOEMRE requests comments or other submissions of information by this same date. We will consider only the submissions we receive by that time.

Submission Procedures: You may submit your indications of interest, comments, and information by one of two methods:

1. Electronically: http://www.regulations.gov. In the entry titled “Enter Keyword or ID,” enter BOEM-2010-0063, then click search. Follow the instructions to submit public comments and view supporting and related materials available for this request for information. BOEMRE will post all comments.

2. By mail, sending your indications of interest, comments, and information to the following address: Bureau of Ocean Energy Management, Regulation and Enforcement, Office of Offshore Alternative Energy Programs, 381 Elden Street, Mail Stop 4090, Herndon, Virginia 20170.

FOR FURTHER INFORMATION CONTACT: Jessica Bradley, Renewable Energy Program Specialist, Bureau of Ocean Energy Management, Regulation and Enforcement, Office of Offshore Alternative Energy Programs, 381 Elden Street, Mail Stop 4090, Herndon, Virginia 20170, (703) 787-1300.

SUPPLEMENTARY INFORMATION:

Purpose of the Request for Interest

The OCS Lands Act requires BOEMRE to award leases competitively, unless BOEMRE makes a determination that there is no competitive interest (43 U.S.C. 1337(p)(3)). This RFI is a preliminary step in the leasing process and the responses to it will assist BOEMRE in determining if there is competitive interest in the area described herein on the OCS offshore Massachusetts. If, following this RFI, BOEMRE determines that there is no competitive interest in this area offshore Massachusetts, BOEMRE may proceed with the noncompetitive lease process pursuant to 30 CFR 285.232 of the Renewable Energy and Alternate Uses of Existing Facilities on the Outer Continental Shelf (REAU) rulemaking. If, following this RFI, BOEMRE determines that there is competitive interest in the RFI area, BOEMRE may proceed with the competitive leasing process set forth under 30 CFR 285.211 through 285.225. Whether the leasing process is competitive or noncompetitive, it will include opportunities for the public to provide input as well as a thorough environmental review, and will be conducted in conformance with all applicable laws and regulations.

As part of the renewable energy leasing process, BOEMRE has consulted with the Commonwealth of Massachusetts on offshore renewable energy development. The Commonwealth of Massachusetts has expressed that it welcomes expressions of interest that support any potential commercial scale wind energy development. The Commonwealth notes that it looks forward in particular to expressions of interest that propose the integrated development of significant generation capacity and a transmission system to connect the generation project(s) to the New England electric grid in Massachusetts or the New England region. Additionally, Massachusetts will ask respondents to provide a preliminary description of infrastructure and locations for on-shore assembly, supply chain and maintenance operations. See companion piece from the Commonwealth of Massachusetts that provides additional information on the State's interest and goals at: http://www.mass.gov/?pageID=eoeeaterminal&L=4&L0=Home&L1=Energy%2c+Utilities+%26+Clean+Technologies&L2=Renewable+Energy&L3=Wind&sid=Eoeea&b=terminalcontent&f=doer_renewables_wind_offshore-wind&csid=Eoeea.

Parties other than those interested in obtaining a commercial lease are welcome to submit comments in response to this RFI. Further, BOEMRE has formed the BOEMRE/Massachusetts Renewable Energy Task Force for coordination among relevant Federal agencies and affected state, local, and tribal governments throughout the leasing process. Task Force meeting materials are available on the BOEMRE Web site at: http://www.boemre.gov/offshore/RenewableEnergy/stateactivities.htm#Massachusetts.

Background

Energy Policy Act of 2005

EPAct amended the OCS Lands Act by adding subsection 8(p), which authorizes the Secretary of the Interior to grant leases, easements, or rights-of-way (ROWs) on the OCS for activities that are not otherwise authorized by law and that produce or support production, transportation, or transmission of energy from sources other than oil or gas. EPAct also required the issuance of regulations to carry out the new authority pertaining to renewable energy on the OCS. The Secretary delegated this authority to issue leases, easements, and ROWs, and to promulgate regulations, to the Director of BOEMRE. BOEMRE published the REAU rule on April 29, 2009.

Executive Order 13547: Stewardship of the Ocean, Our Coasts, and the Great Lakes

In July 2010, the President signed an Executive Order establishing the National Ocean Council. The Order establishes a comprehensive, integrated national policy for the stewardship of the Nation's ocean, coasts and Great Lakes and outlines procedures for the implementation of coastal and marine spatial planning through regional planning bodies.

BOEMRE appreciates the importance of coordinating its planning endeavors with other OCS users and regulators and intends to use the efforts of the regional planning bodies as a resource to inform its regulatory and leasing processes. BOEMRE anticipates that continued coordination with the State Renewable Energy Task Forces will help inform the comprehensive coastal and marine spatial planning effort.

Actions Taken by the Commonwealth of Massachusetts

In January 2010, the Patrick Administration released a study entitled Strategic Options for Investment in Transmission in Support of Offshore Wind Development in Massachusetts. The report was produced by a team at Analysis Group, under the leadership of Dr. Susan F. Tierney. It analyzes the transmission challenges involved in creating substantial offshore wind generation, and presents a series of options for the Commonwealth to consider in developing sufficient transmission capacity; http://www.analysisgroup.com/uploadedFiles/Publishing/Articles/Strategic_Options_Offshore_Wind_12-01-09.pdf.

In January 2010, the Executive Office of Energy and Environmental Affairs (EEA) promulgated the Massachusetts Ocean Management Plan, which establishes new protections for significant marine resources and guides potential future marine development away from environmentally sensitive areas in State waters and on the OCS. To address renewable energy development, the Ocean Management Plan designates two locations, the Gosnold and Martha's Vineyard WEAs, for potential future commercial-scale wind energy development in state waters. Each community will have a significant role in approving projects within their respective jurisdictions. The Ocean Management Plan also distributes an initial development allotment of 100 turbines, on a sliding scale (based on coastline, ocean area, etc.) among the seven coastal regional planning authorities for the development of community (small-scale) wind energy development in state waters. The Ocean Management Plan is based on, and presents detailed maps of, a comprehensive analysis of currently available natural resource and human use data. Some data from the Ocean Management Plan extend sufficiently onto the OCS and will help inform ongoing planning in association with the Federal leasing process; additional data will be developed by the state in conjunction with BOEMRE. See http://www.mass.gov/eea/mop for material associated with the Ocean Management Plan. For Ocean Management Plan spatial data that extends onto the OCS, go to the on-line Massachusetts Ocean Resource Information System (MORIS). To interactively view the spatial data in MORIS, go to http://www.mass.gov/czm/mapping/index.htm and select “Yes” to accept the terms of use. Data are located in the “BOEMRE Request for Interest (RFI)” folder, located within the “Ocean Management” folder. Directions on how to navigate the map and download data are available on the MORIS Web site.

The Massachusetts Clean Energy Center has solicited a Port and Support Infrastructure Analysis for Offshore Energy Development, which will analyze shore and port facilities with a view towards identifying appropriate port facilities, estimating upgrades to make the locations suitable to support offshore energy development, and quantifying economic impacts on the port area.

On July 26, 2010, Massachusetts Governor Deval Patrick and Rhode Island Governor Donald Carcieri signed a Memorandum of Understanding (MOU) to jointly explore the potential development of offshore wind energy in an “area of mutual interest” (AMI) on the OCS offshore both States. BOEMRE will work with both states and the BOEMRE/Rhode Island and BOEMRE/Massachusetts Renewable Energy Task Forces in moving forward with renewable energy leasing within this area.

Determination of Competitive Interest

The first step in determining whether there is competitive interest in an area on the OCS for wind energy projects offshore of Massachusetts will be the evaluation of submissions describing nominations for particular areas of interest as suitable for commercial wind energy projects in response to this RFI. At the conclusion of the comment period for this RFI, BOEMRE will review the information received, undertake a completeness review and qualifications review of the nominations received, and make a determination of competitive interest. BOEMRE will first determine whether there is any geographic overlap of the areas of interest. If two areas of interest fully or partially overlap, the competitive process will begin as outlined in 30 CFR 285.211 through 285.225. BOEMRE will consult with the Massachusetts Renewable Energy Task Force throughout this process.

Situations may arise in which several parties nominate project areas that do not overlap. Under these circumstances, BOEMRE could choose to employ an allocation system of leases that involves the creation of competition across tracts. This system is referred to as intertract competition and would also be implemented under the competitive process outlined in 30 CFR 285.211 through 285.225. BOEMRE will consult with the BOEMRE/Massachusetts Renewable Energy Task Force in determining intertract competition.

Competitive Process

If BOEMRE determines that competitive interest exists for this area, it would proceed with the following defined process, as described in 30 CFR 285.211 through 285.225, consulting with the BOEMRE/Massachusetts Renewable Energy Task Force, as appropriate:

(1) Call for Information and Nominations (Call). BOEMRE would publish in the Federal Register a notice of a Call for Information and Nominations for leasing in specified areas. The comment period following the notice of a Call would be 45 days. In the notice, BOEMRE may request comments seeking information on areas that should receive special consideration and analysis; on geological conditions (including bottom hazards); on archaeological sites on the seabed or nearshore; on possible multiple uses of the proposed leasing area (including navigation, recreation, and fisheries); and, on other socioeconomic, cultural, biological, and environmental matters.

BOEMRE would require potential lessees to submit the following information in response to the Call: the area of interest for a possible lease; a general description of the potential lessee's objectives and the facilities that the potential lessee would use to achieve those objectives; a general schedule of proposed activities, including those leading to commercial operations; data and information concerning renewable energy and environmental conditions in the area of interest, including the energy data, natural and cultural resource data, potential landside and nearshore project elements that may affect historic and cultural resources, and information that was used to evaluate the area of interest; and documentation showing that the submitting entity is qualified to hold a lease. However, an applicant would not be required to resubmit information already submitted in response to this RFI. The Call may solicit information relating to the offshore transmission system of interest to the state in addition to information relating to existing wind generating facilities and sites.

(2) Area Identification. BOEMRE would identify areas for environmental analysis and consideration for leasing in discussion with appropriate Federal agencies, states, local governments, Indian tribes and other interested parties based on the information submitted in response to this RFI and the Call.

(3) Proposed Sale Notice. BOEMRE would then publish the Proposed Sale Notice (PSN) in the Federal Register and send the PSN to any affected Tribal government, the State Historic Preservation Office, the Governor of any affected state and the executive of any local government that might be affected. The PSN would describe the areas offered for leasing and the proposed terms and conditions of a lease sale, including the proposed auction format, lease form and lease provisions. Additionally, the PSN would describe the criteria and process for evaluating bids. The PSN would be issued after completion of the final National Environmental Policy Act (NEPA) documentation, preparation of the Consistency Determination as required by the Coastal Zone Management Act (CZMA) and its implementing regulations, and preparation of various analyses of proposed lease sale economic terms and conditions. The comment period following issuance of a PSN would be 60 days.

(4) Final Sale Notice. BOEMRE would then publish the Final Sale Notice (FSN) in the Federal Register at least 30 days before the date of the sale. Should BOEMRE proceed with a competitive auction to award leases, BOEMRE would use one of the following three auction formats to select the winner as described at 30 CFR 285.220: sealed bidding; ascending bidding; or two-stage bidding (a combination of ascending bidding and sealed bidding). The BOEMRE would publish the criteria for winning bid determinations in the FSN.

(5) Bid Evaluation. Following publication of the FSN in the Federal Register, qualified bidders may submit their bids to BOEMRE in accordance with procedures specified for the auction format to be used. The bids, including the bid deposits if applicable, would be checked for technical and legal adequacy. BOEMRE would evaluate the bids to determine if the bidder has complied with all applicable regulations. BOEMRE reserves the right to reject any or all bids and the right to withdraw an offer to lease an area from the sale.

(6) Issuance of a Lease. Following the selection of a winning bid by BOEMRE, the submitter would be notified of the decision and provided a set of official lease forms for execution. The successful bidder would be required to execute the lease, pay the remainder of the bonus bid, if applicable, and file the required financial assurance within 10 days of receiving the lease copies. Upon receipt of the required payments, financial assurance, and properly executed lease forms, BOEMRE would issue a lease to the successful bidder.

Noncompetitive Process

If BOEMRE determines that there is no competitive interest in a proposed lease, it may proceed with the noncompetitive lease issuance process pursuant to 30 CFR 285.232, consulting with the BOEMRE/Massachusetts Renewable Energy Task Force, as appropriate. Within 60 days of the date of a determination of no competitive interest, the respondent would be required to submit a Site Assessment Plan (SAP), as described in 30 CFR 285.231(d)(2)(i).

Leases issued noncompetitively need to comply with the requirements of NEPA, CZMA, the Endangered Species Act (ESA), the National Historic Preservation Act (NHPA), and other applicable Federal statutes. In accordance with 30 CFR 285.231(e), BOEMRE would coordinate and consult, as appropriate, with affected Federal agencies, affected Indian tribes, and state and local governments, in issuing a noncompetitive lease and developing lease terms and conditions.

It is possible that responses to this RFI may result in determinations that there is competitive interest for some areas but not for others. BOEMRE will announce publicly its determinations before proceeding with a competitive process, a noncompetitive process, or both.

Environmental Review

The following describes BOEMRE's environmental review process, which would be coordinated, to the extent possible, with any Federal, tribal, and State agencies that may have jurisdiction over activities associated with OCS commercial wind energy leases. Other Federal, State, and tribal agencies may have additional and separate environmental review or permitting processes or other requirements.

After evaluating the responses to the RFI, but before publishing the PSN for a competitive lease sale or issuing a lease noncompetitively, BOEMRE would prepare a NEPA analysis for public review and conduct required consultations with Federal, tribal, and State agencies.

Several consultations would be conducted, as appropriate, and integrated into the NEPA process described below. These consultations include, but are not limited to, those required by the CZMA, ESA, Magnuson-Stevens Fishery Conservation and Management Act, NHPA, and Executive Order 13175—“Consultation and Coordination with Tribal Governments.” These consultations would be completed prior to the issuance of any leases.

BOEMRE will prepare an Environmental Assessment (EA) to evaluate the effects of issuing renewable energy leases. If the EA finds that the proposed action would be a major Federal action significantly affecting the quality of the human environment (42 U.S.C. 4332(c)), then the BOEMRE would begin the process of preparing an Environmental Impact Statement (EIS) to analyze the effects of issuing the lease(s) through either a noncompetitive or competitive process. This would include a public scoping period, including a 30-day comment period and one or more public meetings conducted to solicit input on the alternatives and issues to be addressed in a draft EIS. The draft EIS would describe the nature of the action under consideration, and any potential direct, indirect, and cumulative impacts that the action will have on biological or physical resources, as well as on socioeconomic conditions.

Description of the Area

The RFI area was delineated through consultation with the BOEMRE/Massachusetts Renewable Energy Task Force. The following whole OCS lease blocks are included within the RFI area:

In Providence NK19-07, blocks, 6976, 6977, 6978, 7022, 7023, 7024, 7025, 7026, 7027, 7028, 7029, 7072, 7073, 7074, 7075, 7076, 7077, 7078, 7079, 7118, 7119, 7120, 7121, 7122, 7123, 7124, 7125, 7126, 7127, 7128, and 7129.

In Providence NK19-07 following partial blocks are also included in the RFI area:

Block Number | Sub Block
6972 | M,N,O,P
6973 | M,N,O,P
6974 | L,M,N,O,P
6975 | D,F,G,H,I,J,K,L,M,N,O,P

In Chatham NK19-08, blocks 6761, 6811, 6861, 6862, 6911, 6912, 6913, 6961, 6962, 6963, 7011, 7012, 7013, 7014, 7061, 7062, 7063, 7064, 7065, 7111, 7112, 7113, 7114, and 7115.

In Block Island Shelf NK19-10, blocks 6019, 6020, 6021, 6022, 6023, 6024, 6025, 6026, 6027, 6028, 6029, 6030, 6069, 6070, 6071, 6072, 6073, 6074, 6075, 6076, 6077, 6078, 6079, 6080, 6081, 6082, 6083, 6084, 6125, 6126, 6127, 6128, 6129, 6130, 6131, 6132, 6133, 6134, 6175, 6176, 6177, 6178, 6179, 6180, 6181, 6182, 6183, 6184, 6225, 6226, 6227, 6228, 6229, 6230, 6231, 6232, 6233, 6234, 6275, 6276, 6277, 6278, 6279, 6280, 6281, 6282, 6283, 6284, 6325, 6326, 6327, 6328, 6329, 6330, 6331, 6332, 6333, 6334, 6376, 6377, 6378, 6379, 6380, 6381, 6382, 6383, 6384, 6428, 6429, 6430, 6431, 6432, 6433, 6434, 6480, 6481, 6482, 6483, 6484, 6532, 6533, and 6534.

In Block Island Shelf, NK19-10 the following partial blocks are also included in the RFI area:

Block Number | Sub Block
6119 | A,B,C,D,E,F,G,H,I,J,K,L,M,N,O
6120 | A,B,C,D,E,F,G,H,I,J,K,L
6121 | A,B,C,D,E,F,G,H,I,J,K,L
6122 | A,B,C,D,E,F,G,H,I,J,K,L
6123 | A,B,C,D,E,F,G,H,I,J,K,L
6124 | A,B,C,D,E,F,G,H,I,J,K,L,N,O,P
6169 | A,B,C,E,F,G,I,J,K,M,N,O
6174 | B,C,D,F,G,H,J,K,L,N,O,P
6219 | A,B,C,E,F,G,I,J,K,M,N,O
6224 | B,C,D,F,G,H,J,K,L,N,O,P
6269 | A,B,C,E,F,G,I,J,K,M,N,O

In Hydrographer Canyon NK19-11, blocks 6011, 6012, 6013, 6014, 6015, 6016, 6051, 6052, 6053, 6054, 6055, 6056, 6057, 6058, 6059, 6060, 6061, 6062, 6063, 6064, 6065, 6066, 6067, 6101, 6102, 6103, 6104, 6105, 6106, 6107, 6108, 6109, 6110, 6111, 6112, 6113, 6114, 6115, 6116, 6117, 6151, 6152, 6153, 6154, 6155, 6156, 6157, 6158, 6159, 6160, 6161, 6162, 6163, 6164, 6165, 6166, 6167, 6201, 6202, 6203, 6204, 6205, 6206, 6207, 6208, 6209, 6210, 6211, 6212, 6213, 6214, 6215, 6216, 6217, 6251, 6252, 6253, 6254, 6255, 6256, 6257, 6258, 6259, 6260, 6261, 6262, 6263, 6264, 6265, 6266, 6267, 6301, 6302, 6303, 6304, 6305, 6306, 6307, 6308, 6309, 6310, 6311, 6312, 6313, 6314, 6315, 6316, 6317, 6351, 6352, 6353, 6354, 6355, 6356, 6357, 6358, 6359, 6360, 6361, 6362, 6363, 6364, 6365, 6366, 6367, 6401, 6402, 6403, 6404, 6405, 6406, 6407, 6408, 6409, 6410, 6411, 6412, 6413, 6414, 6415, 6416, 6417, 6451, 6452, 6453, 6454, 6461, 6462, 6463, 6464, 6465, 6466, 6467, 6501, 6502, 6511, 6512, 6513, 6514, 6515, 6516, 6562, 6563, and 6564.

The area of interest is located off the coast of Massachusetts beginning approximately 12 nautical miles (nm) south of Martha's Vineyard and Nantucket and extending approximately 31 nm seaward, south to the 60 meter depth contour, then east approximately 65 nm, then north approximately 31 nm. The area is approximately 2,224 square nm and contains 321 whole OCS lease blocks as well as 163 partial blocks. The boundary of the RFI follows the points listed in the table below in clockwise order. Point numbers 1 and 57 are the same. Coordinates are provided in X, Y (eastings, northings) UTM Zone 18N, NAD 83 and geographic (longitude, latitude), NAD83.

Point No | X easting | Y northing | Longitude | Latitude
1 | 327200 | 4540800 | −71.0546 | 41.000088
2 | 346400 | 4540800 | −70.826429 | 41.003931
3 | 346400 | 4551600 | −70.829121 | 41.101169
4 | 359600 | 4551600 | −70.671998 | 41.103557
5 | 359600 | 4552800 | −70.672272 | 41.114362
6 | 362000 | 4552800 | −70.643698 | 41.114774
7 | 362000 | 4554000 | −70.643967 | 41.125579
8 | 364400 | 4554000 | −70.615387 | 41.125983
9 | 364400 | 4555200 | −70.615653 | 41.136789
10 | 380000 | 4555200 | −70.42984 | 41.139245
11 | 380000 | 4550400 | −70.428902 | 41.09602
12 | 384800 | 4550400 | −70.371762 | 41.096715
13 | 384800 | 4531200 | −70.36818 | 40.923806
14 | 452000 | 4531200 | −69.570139 | 40.930514
15 | 452000 | 4574400 | −69.573517 | 41.319642
16 | 456800 | 4574400 | −69.516168 | 41.319914
17 | 456800 | 4564800 | −69.515487 | 41.233442
18 | 461600 | 4564800 | −69.458213 | 41.233685
19 | 461600 | 4560000 | −69.457911 | 41.190448
20 | 466400 | 4560000 | −69.400673 | 41.190661
21 | 466400 | 4550400 | −69.400147 | 41.104187
22 | 471200 | 4550400 | −69.342985 | 41.104371
23 | 471200 | 4545600 | −69.34276 | 41.061133
24 | 476000 | 4545600 | −69.285634 | 41.061289
25 | 476000 | 4536000 | −69.285261 | 40.974811
26 | 480800 | 4536000 | −69.228209 | 40.974938
27 | 480800 | 4531200 | −69.22806 | 40.931698
28 | 485600 | 4531200 | −69.171045 | 40.931797
29 | 485600 | 4488000 | −69.170052 | 40.542625
30 | 480800 | 4488000 | −69.226735 | 40.542528
31 | 480800 | 4483200 | −69.226589 | 40.499285
32 | 471200 | 4483200 | −69.339882 | 40.499007
33 | 471200 | 4478400 | −69.339664 | 40.455764
34 | 456800 | 4478400 | −69.509491 | 40.455141
35 | 456800 | 4483200 | −69.509818 | 40.498382
36 | 452000 | 4483200 | −69.566462 | 40.498119
37 | 452000 | 4492800 | −69.567191 | 40.5846
38 | 423200 | 4492800 | −69.907473 | 40.582428
39 | 423200 | 4488000 | −69.906889 | 40.539191
40 | 413600 | 4488000 | −70.020234 | 40.538246
41 | 413600 | 4483200 | −70.019579 | 40.495009
42 | 389600 | 4483200 | −70.302734 | 40.492164
43 | 389600 | 4488000 | −70.303571 | 40.535396
44 | 380000 | 4488000 | −70.416893 | 40.534062
45 | 380000 | 4492800 | −70.417805 | 40.577291
46 | 370400 | 4492800 | −70.531192 | 40.575844
47 | 370400 | 4497600 | −70.532179 | 40.619071
48 | 360800 | 4497600 | −70.645631 | 40.61751
49 | 360800 | 4502400 | −70.646693 | 40.660734
50 | 356000 | 4502400 | −70.703452 | 40.659911
51 | 356000 | 4512000 | −70.705656 | 40.746356
52 | 352400 | 4512000 | −70.748279 | 40.745718
53 | 352400 | 4522800 | −70.750833 | 40.842965
54 | 330800 | 4522800 | −71.006912 | 40.838793
55 | 330800 | 4507200 | −71.002689 | 40.698345
56 | 327200 | 4507200 | −71.045274 | 40.697598
57 | 327200 | 4540800 | −71.0546 | 41.000088

Specific mitigation, stipulations, or exclusion areas may be developed as a result of site-specific environmental reviews and associated consultations, as well as continued coordination through the BOEMRE/Massachusetts Renewable Energy Task Force. Multiple use issues raised through consultation with the BOEMRE/Massachusetts Renewable Energy Task Force are described below.

BOEMRE established the Massachusetts Renewable Energy Task Force in November 2009, at the request of Governor Deval Patrick. The first meeting was held on November 19, 2009, to introduce the intergovernmental members, discuss the purpose of the task force, explain BOEMRE renewable energy leasing and environmental review process, and discuss a draft charter. The next meeting was held January 27, 2010, to present and discuss a draft RFI developed in consultation with the Commonwealth's Executive Office of Energy and Environmental Affairs. The Commonwealth initially proposed a development buffer of 9 nautical miles from the shore based on review of visual analysis materials. Based on input from the BOEMRE/Massachusetts Renewable Energy Task Force, the draft RFI was revised to begin 12 nautical miles offshore, which was presented at the September 8, 2010, Massachusetts Renewable Energy Task Force meeting. BOEMRE collected comments from task force members and held another meeting on October 15, 2010, to discuss additional requested changes. Several Massachusetts Renewable Energy Task Force members, including the State Historic Preservation Officer, the Wampanoag Tribe of Gay Head (Aquinnah), the Mashpee Wampanoag Tribe, and representatives from the towns of Tisbury and Oak Bluffs, expressed a preference for the RFI area to begin 21 nautical miles offshore. BOEMRE has not changed the RFI boundary to begin 21 nautical miles offshore, but has depicted the 21 nautical mile delineation on the RFI map as a point of information for potential developers.

Nantucket Lightship Habitat Closure Area

Through consultation with the BOEMRE/Massachusetts Renewable Energy Task Force, the National Oceanic and Atmospheric Administration's National Marine Fisheries Service (NMFS) has identified the Nantucket Lightship Habitat Closure Area within the RFI Area. NMFS has closed this area to all bottom-tending mobile fishing gear in order to minimize adverse effects of fishing on essential fish habitat (EFH). The NMFS has indicated that commercial wind development within this area may be subject to additional review in order to ensure that conservation efforts in this area are maintained. This area can be located at the following URL: http://www.nero.noaa.gov/nero/regs/infodocs/MultsClosedAreas.pdf. BOEMRE has also included this area on the RFI map as a point of information for potential developers.

Traffic Separation Scheme (TSS) and Navigational Issues

BOEMRE is aware that the RFI area lies adjacent, or in close proximity to a Traffic Separation Scheme (TSS) and thus the areas nominated in response to this RFI may need to be modified. The U.S. Coast Guard will require buffers from the edges of a TSS and from the entrance and exit to a TSS. Because proposed project characteristics will be unique to each individual project, the buffers will be further defined as more information is collected, such as vessel traffic types, density and routing direction. Further, it is important to note that two-way routes, fairways and TSSs are various forms of routing measures and that buffer dimensions will vary because of many factors, one of which is vessel traffic density/composition and rules-of-the-road protocol.

BOEMRE will take into consideration and review data including but not limited to Automatic Identification System (AIS) data that is used on ships and vessel traffic services. The BOEMRE also will also consult with relevant agencies such as the U.S. Coast Guard regarding potential issues concerning the TSS and other navigational and safety issues and will use best management practices. Depending on the findings, BOEMRE and the U.S. Coast Guard will develop reasonable and appropriate mitigations such as conditions on turbine placement, preservation of adequate navigation buffers and setbacks, protection of vessel traffic lanes or other operational restrictions utilizing their existing authorities, policies, and procedures.

If such mitigation cannot be achieved, portions of certain nominated areas may need to be excluded. The following blocks are highlighted for consideration of U.S. Coast Guard concerns: In Block Island Shelf NK19-10, blocks 6428, 6429, 6430, 6431, 6432, 6433, 6434, 6480, 6481, 6482, 6483, 6484, 6532, 6533, 6534; In Hydrographer Canyon NK19-11, blocks 6317, 6356, 6357, 6358, 6359, 6360, 6361, 6362, 6363, 6364, 6385, 6366, 6367, 6401, 6402, 6403, 6404, 6405, 6406, 6407, 6408, 6409, 6410, 6411, 6412, 6413, 6414b, 6415, 6416, 6417, 6451, 6452, 6453, 6454, 6461, 6462, 6463, 6464, 6465, 6466, 6467, 6501, 6502, 6511, 6512, 6513, 6514, 6515, 6516, 6562, 6563, 6564.

Department of Defense Activities on the Outer Continental Shelf

The Department of Defense conducts offshore testing, training, and operations on the Outer Continental Shelf. BOEMRE will consult with the Department of Defense on all proposed offshore wind energy projects to ensure that projects are compatible with Defense activities on the Outer Continental Shelf.

Map of RFI area

A map of the RFI area can be found at the following URL: http://www.boemre.gov/offshore/RenewableEnergy/stateactivities.htm#Massachusetts.

A large scale map of the RFI area showing boundaries of the RFI area with numbered blocks is available from BOEMRE at the following address: Bureau of Ocean Energy Management, Regulation and Enforcement, Office of Offshore Alternative Energy Programs, 381 Elden Street, Mail Stop 4090, Herndon, Virginia 20170, Phone: (703) 787-1300, Fax: (703) 787-1708.

Required Indication of Interest Information

If you intend to submit an indication of interest in a commercial lease from BOEMRE for the development of wind resources in the area(s) identified in this RFI, you must provide the following:

(1) The BOEMRE Protraction Diagram name, number, and specific whole or partial OCS blocks or areas within the RFI area that are of interest for commercial development, including any required buffer area. If your proposed project area includes one or more partial blocks please describe those partial blocks in terms of a sixteenth of an OCS block. Note that any indications of interest identifying areas greater than what would be reasonably necessary to develop a commercial wind facility will not be considered as valid indications of interest. In addition, BOEMRE will not consider any areas outside of the RFI area in this process;

(2) A description of your objectives and the facilities that you may use to achieve those objectives;

(3) A schedule of proposed activities, including those leading to commercial operations;

(4) Available and pertinent data and information concerning renewable energy resources and environmental conditions in the RFI area, including energy and resource data and information used to evaluate the RFI area; and

(5) Documentation demonstrating that you are legally, technically and financially qualified to hold a lease as set forth in 30 CFR 285.106 and 285.107. Your technical and financial documentation should demonstrate that you are capable of constructing, operating, maintaining, and decommissioning the facilities described in (2) above. Documentation of financial qualification should include information establishing access to sufficient capital to carry out development. Examples of documentation of technical qualification may include evidence of international or domestic experience with renewable energy projects or other types of electric-energy-related projects.

In addition, the Commonwealth has requested a description of plans for transmission to connect the wind energy project(s) to the on-shore grid. Please refer to the companion piece from the Commonwealth of Massachusetts that provides additional information on the State's interest and goals at: http://www.mass.gov/?pageID=eoeeaterminal&L=4&L0=Home&L1=Energy%2c+Utilities+%26+Clean+Technologies&L2=Renewable+Energy&L3=Wind&sid=Eoeea&b=terminalcontent&f=doer_renewables_wind_offshore-wind&csid=Eoeea. If you include a description of plans for transmission, please follow the instructions in the companion piece, and include (a) a description of the physical configuration of the transmission system including specific points of interconnection to the grid and (b) the ownership structure of the transmission system. For example, with respect to physical configuration, do you anticipate one or more radial line(s) or a network system (i.e., connected to the grid in more than one location); and would the radial line(s) or network be sized to support only the proposed wind energy project(s) or to accommodate future projects as well? With respect to ownership structure, would the transmission system be owned by the developers of the wind energy project(s) or otherwise on a merchant basis, by a traditional transmission company, or through some other arrangement? Additionally, on what funding assumptions are plans for the wind energy project(s), including the transmission system, predicated? With regard to transmission, we recommend that the potential lessee(s) review the report entitled “Strategic Options for Investment in Transmission in Support of Offshore Wind Development in Massachusetts,” dated January 8, 2010; http://www.analysisgroup.com/uploadedFiles/Publishing/Articles/Strategic_Options_Offshore_Wind_12-01-09.pdf.

It is critical that you submit a complete indication of interest so that BOEMRE may proceed with the commercial wind leasing process offshore Massachusetts in a timely manner. If BOEMRE reviews your indication of interest and determines that it is incomplete, BOEMRE will inform you of this determination in writing. This letter will describe the information that BOEMRE determined to be missing from your indication of interest, and that you must submit in order for BOEMRE to deem your submission complete. You will be given 15 business days from the date of the letter to submit the information that BOEMRE found to be missing from your original submission. If you do not meet this deadline, or if BOEMRE determines this second submittal to be insufficient as well, then BOEMRE retains the right to deem your indication of interest invalid. In that case, BOEMRE would not move forward with your indication of interest submitted in response to this RFI.

Protection of Privileged or Confidential Information

BOEMRE will protect privileged or confidential information that you submit as required by the Freedom of Information Act (FOIA). Exemption 4 of FOIA applies to trade secrets and commercial or financial information that you submit that is privileged or confidential. If you wish to protect the confidentiality of such information, clearly mark it and request that BOEMRE treat it as confidential. BOEMRE will not disclose such information, subject to the requirements of FOIA. Please label privileged or confidential information “Contains Confidential Information” and consider submitting such information as a separate attachment.

However, BOEMRE will not treat as confidential any aggregate summaries of such information or comments not containing such information. Additionally, BOEMRE will not treat as confidential (1) the legal title of the nominating entity (for example, the name of your company), or (2) the list of whole or partial blocks that you are nominating.

Section 304 of NHPA (16 U.S.C. 470 et seq; 1966, as amended)

BOEMRE is required, after consultation with the Secretary, to withhold the location, character, or ownership of historic resources if determination is made that the disclosure may, among other concerns, risk harm to the historic resources or impede the use of a traditional religious site by practitioners. Tribal entities should designate information that qualifies for protection under this section as confidential.

Dated: December 17, 2010.
Michael R. Bromwich,
Director, Bureau of Ocean Energy Management, Regulation and Enforcement.

[FR Doc. 2010-32853 Filed 12-28-10; 8:45 am]

BILLING CODE 4310-MR-P